Title 3—

The President

Presidential Determination No. 2002-27 of August 7, 2002

Presidential Determination on Waiver of Restrictions on

Assistance to Russia under the Cooperative Threat Reduction Act of 1993 and Title V of the FREEDOM Support Act

Memorandum for the Secretary of State

Pursuant to the authority vested in me by section 302 of the 2002 Supplemental Appropriations Act for Further Recovery from and Response to Terrorist Attacks on the United States (Public Law 107-206), I hereby certify that waiving the restrictions contained in subsection (d) of 22 U.S.C. 5952 and in section 502 of the FREEDOM Support Act (Public Law 102-511) with respect to the Russian Federation is important to the national security interests of the United States.

You are authorized and directed to transmit this certification to the Congress and to arrange for its publication in the Federal Register.

B

THE WHITE HOUSE,

Washington, August 7, 2002.

[FR Doc. 02-21192

Filed 08-16-02; 8:45 am]

Billing code 4710-10-P